FEDERAL COMMUNICATIONS COMMISSION

Notice of Public Information Collection(s) Being Reviewed by the Federal Communications Commission, Comments Requested

October 12, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before December 20, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control Number: 3060-XXXX.

Title: Federal-State Joint Board on Universal Service Petitions for Designation as an Eligible Telecommunications Carriers (ETC).

Form No.: Not applicable.

Type of Review: New collection.

Respondents: Business or other for-profit.

Number of Respondents: 22.

Estimated Time per Response: 8 hours.

Frequency of Response: Recordkeeping requirement; other and annual reporting requirements.

Total Annual Burden: 176 hours.

Total Annual Cost: Not applicable.

Privacy Act Impact Assessment: Not applicable.

Needs and Uses: In the Virginia Cellular Order (FCC 03-338), the Commission stated as part future Eligible Telecommunications Carriers (ETC) designation orders, each designated ETC will be required to submit records and documentation on an annual basis. In particular, ETCs will be required to report: (1) Progress towards meeting infrastructure build-out plans; (2) the number of consumer complaints per 1,000 handsets; and (3) information detailing the number of unfulfilled requests for service from potential customers for a twelve month period. This information collection is necessary to ensure that each ETC satisfies its obligation under section 214(e) of the Communications Act of 1934, as amended, to provide services supported by the universal service mechanism throughout the areas for which each ETC is designated.

Federal Communications Commission.
Marlene H. Dortch,
Secretary.

[FR Doc. 04-23456 Filed 10-19-04; 8:45 am]

BILLING CODE 6712-01-P